DEPARTMENT OF THE INTERIOR

Bureau of Land Management

[WO-260-1060-PC-24 1A]

Call for Nominations for the Wild Horse and Burro Advisory Board

AGENCY: Bureau of Land Management, Interior.

ACTION: Notice of Wild Horse and Burro Advisory Board call for nominations.

SUMMARY: The purpose of this notice is to solicit public nominations for three members to the Wild Horse and Burro Advisory Board. The Board provides advice concerning management, protection, and control of wild free-roaming horses and burros on the public lands administered by the Department of the Interior, through the Bureau of Land Management, and the Department of Agriculture, through the Forest Service.

DATES: Nominations should be submitted to the address listed below under ADDRESSES no later than June 8, 2001.

ADDRESSES: National Wild Horse and Burro Program, Bureau of Land Management, Department of the Interior, P.O. Box 12000, Reno, Nevada 89520-0006, Attn: Ramona DeLorme; FAX 775-861-6711; or e-mail: Ramona_Delorme@blm.gov.

FOR FURTHER INFORMATION CONTACT: Bud Cribley, 202-452-5073.

SUPPLEMENTARY INFORMATION: Any individual or organization may nominate one or more persons to serve on the Wild Horse and Burro Advisory Board. Individuals may also nominate themselves for Board membership. All nomination letters should include the name, address, profession, relevant biographic data, and reference sources for each nominee, and should be sent to the address listed under ADDRESSES, above. You may make nominations for the following categories of interest:

Wild horse and burro advocacy group

Veterinary medicine (equine science)

Public-at-large

The specific category that the nominee will represent should be identified in the letter of nomination. Board membership must be balanced in terms of categories of interest represented. Each member must be a person who, as a result of training and experience, has knowledge or special expertise which qualifies him or her to provide advice from among the categories of interest listed above. Members will be appointed to a term of 3 years.

Pursuant to Section 7 of the Wild Free-Roaming Horse and Burro Act, members of the Board cannot be employed of Federal or State Government.

Members will serve without salary, but will be reimbursed for travel and per diem expenses at current rates for Government employees.

The Board will meet no less than two times annually. The Director, Bureau of Land Management may call additional meetings in connection with special needs for advice.

Dated: April 9, 2001.
Henri R. Bisson,
Assistant Director, Renewable Resources and Planning, Bureau of Land Management.

[FR Doc. 01-10051 Filed 4-23-01; 8:45 am]

BILLING CODE 4310-84-P